DEPARTMENT OF ENERGY

Federal Energy Regulatory Commission

[Project No. 618-170]

Alabama Power Company; Notice of Application for Amendment of License and Soliciting Comments, Motions To Intervene, and Protests

November 30, 2007.

Take notice that the following hydroelectric application has been filed with the Commission and is available for public inspection:

a. Type of Application: Request for Temporary Variance of Minimum Flow Requirement.

b. Project No.: 618-170.

c. Date Filed: November 26, 2007.

d. Applicant: Alabama Power Company.

e. Name of Project: Jordan Dam.

f. Location: On the Coosa River, in Elmore, Chilton, and Coosa Counties, Alabama.

g. Filed Pursuant to: Federal Power Act, 16 U.S.C. 791a-825r.

h. Applicant Contact: Barry Lovett, Alabama Power Company, 600 N.18th Street, P.O. Box 2641, Birmingham, AL 35291, (205) 257-1258.

i. FERC Contact: Peter Yarrington, peter.yarrington@ferc.gov, (202) 502-6129.

j. Deadline for filing comments, motions to intervene and protests: December 17, 2007.

All documents (original and eight copies) should be filed with: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The Alabama Power Company (APC) is requesting a 90-day variance of the Jordan Dam Project's minimum flow requirements due to continuing drought conditions in the Southeast, and to allow continuation of a study of the effects of minimum flow reductions on aquatic resources, including the federally endangered Tulotoma snail, Tulotoma magnifica. Drought conditions in the Coosa River Basin continue to be rated “exceptional,” the most severe category recognized by the U.S. Drought Monitoring Program. The project license requires a flow release of 2,000 cfs July 1 through March 31. The licensee proposes to provide a flow of 1,600 cfs (+/−5%) at Jordan Dam during the 90-day variance, to begin December 2, 2007.

l. Location of the Application: The filing is available for inspection and reproduction at the Commission's Public Reference Room, located at 888 First Street, NE., Room 2A, Washington, DC 20426 or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call 1-866-208-3676 or e-mail FERCOnlineSupport@ferc.gov; for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(I)(iii) and the instructions on the Commission's Web site at http://www.ferc.gov under the “e-Filing” link.

Kimberly D. Bose,
Secretary.

[FR Doc. E7-23772 Filed 12-6-07; 8:45 am]

BILLING CODE 6717-01-P